DEPARTMENT OF AGRICULTURE

Forest Service

Meeting of the National Urban and Community Forestry Advisory Council

AGENCY: Forest Service, USDA.

ACTION: Notice of meeting and listening session.

SUMMARY: The National Urban and Community Forestry Advisory Council (Council) will meet in Tulsa, Oklahoma. Additional information concerning the Council can be found by visiting the Council's Web site at: http://www.fs.fed.us/ucf/nucfac.shtml.

DATES: The meeting will be held on the following dates and times:

• Business meeting, Monday, November 13, 2017 from 8:30 a.m. to 5:00 p.m. (CST), and

• Listening session, Thursday, November, 16, 2017 from 5:00 p.m. to 6:00 p.m. (CST), or until Council business is completed. All meetings are subject to cancellation. For an updated status of meeting prior to attendance, please contact the person listed under For Further Information Contact.

ADDRESSES: The meeting and listening session will be held at the Hyatt Regency Tulsa, 101 East 2nd Street, Tulsa, OK. Monday's business meeting will be located in the Oklahoma South Room, First Floor—Lower Lobby Level. Thursday's listening session will be located in the Promenade D Room, Second Floor—Lobby Level.

Written comments concerning this meeting should be submitted as described under Supplementary Information. All comments, including names and addresses, when provided, are placed in the record and available for public inspection and copying. The public may inspect comments received at the USDA Forest Service, Sidney Yates Building., Room 3SC-01C, 201 14th Street SW., Washington DC, 20024. Please call ahead at 202-309-9873 to facilitate entry into the building.

FOR FURTHER INFORMATION CONTACT: Nancy Stremple, Executive Staff, National Urban and Community Forestry Advisory Council, Sidney Yates Building, Room 3SC-01C, 201 14th Street SW., Washington, DC, 20024, by cell telephone at 202-309-9873, or by email at nstremple@fs.fed.us, or via facsimile at 202-690-5792. Individuals who use telecommunication devices for the deaf (TDD) may call the Federal Information Relay Service (FIRS) at 1-800-877-8339 between 8:00 a.m. and 8:00 p.m., Eastern Standard Time, Monday through Friday.

SUPPLEMENTARY INFORMATION: The Council is authorized under Section 9 of the Cooperative Forestry Assistance Act (the Act), as amended by Title XII, Section 1219 of the Act and the Federal Advisory Committee Act (FACA). The purpose of the meeting is to:

1. Approve the 2017 Accomplishment and Recommendations report;

2. Approve the 2019 request for proposals draft and discuss the 2018 proposals;

3. Conduct a listening session with constituents on community and urban forestry concerns and opportunities;

4. Provide updates on the implementation of the Ten Year Urban Forestry Action Plan (2016-2026); and

5. Receive Forest Service budget and program updates.

The meeting and listening session are open to the public. The Monday meeting agenda will include time for people to make oral statements of three minutes or less. The listening session is an open agenda. Individuals wishing to make an oral statement at the Monday business meeting should submit a request in writing by Tuesday November 7, 2017, to be scheduled on the agenda. Council discussion is limited to Forest Service staff and Council members, however anyone who would like to bring urban and community forestry matters to the attention of the Council may file written statements with the Council's staff before or after the meeting. Written comments and time requests for oral comments must be sent to Nancy Stemple, Executive Staff, National Urban and Community Forestry Advisory Council, Sidney Yates Building, Room 3SC-01C, 201 14th Street SW., Washington, DC, 20024, or by email at nstremple@fs.fed.us.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: October 27, 2017.
Vicki Christiansen,
Deputy Chief, State and Private Forestry.

[FR Doc. 2017-23987 Filed 11-2-17; 8:45 am]

BILLING CODE 3411-15-P